OFFICE OF THE UNITED STATES TRADE REPRESENTATIVE

Notice of Change in Meeting Time of the Industry Sector Advisory Committee on Small and Minority Business (ISAC-14)

AGENCY: Office of the United States Trade Representative.

ACTION: Notice of change in meeting time.

SUMMARY: A notice was published in the Federal Register dated March 28, 2000, Volume 65, Number 60, page 16450, announcing a meeting of the Industry Sector Advisory Committee on Small and Minority Business (ISAC-14) scheduled for April 10, 2000, from 9:30 a.m. to 2:45 p.m. The meeting was to be opened to the public from 9:30 a.m. to 10:30 a.m. and again from 11 a.m. to 2:45 p.m. and closed to the public from 10:30 a.m. to 11 a.m. However, due to scheduling conflicts the meeting has been rescheduled from 9:15 a.m. to 3 p.m. The meeting will be closed to the public from 9:15 a.m. until 10 a.m. and opened to the public from 10 a.m. to 3 p.m.

FOR FURTHER INFORMATION CONTACT: Ladan Manteghi, Office of the United States Trade Representative, (202) 395-6120.

Pate Felts,
Assistant U.S. Trade Representative.

[FR Doc. 00-8844 Filed 4-7-00; 8:45 am]

BILLING CODE 3190-01-M